DEPARTMENT OF HOMELAND SECURITY

Federal Emergency Management Agency

[Docket ID FEMA-2018-0009; OMB No. 1660-NEW]

Agency Information Collection Activities: Proposed Collection; Comment Request; Transcript Request Form

AGENCY: Federal Emergency Management Agency, DHS.

ACTION: Notice and request for comments.

SUMMARY: The Federal Emergency Management Agency, as part of its continuing effort to reduce paperwork and respondent burden, invites the general public to take this opportunity to comment on a new information collection. In accordance with the Paperwork Reduction Act of 1995, this notice seeks comments concerning the student transcript requests for FEMA courses and programs that are delivered on-campus at FEMA's National Emergency Training Center (NETC) and its training facilities throughout the Nation, in coordination with State and local training officials and organizations and local colleges and universities.

DATES: Comments must be submitted on or before April 23, 2018.

ADDRESSES: To avoid duplicate submissions to the docket, please use only one of the following means to submit comments:

(1) Online. Submit comments at www.regulations.gov under Docket ID FEMA-2018-0009. Follow the instructions for submitting comments.

(2) Mail. Submit written comments to Docket Manager, Office of Chief Counsel, DHS/FEMA, 500 C Street SW, 8NE, Washington, DC 20472-3100.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of www.regulations.gov.

FOR FURTHER INFORMATION CONTACT: Clarence (Smiley) White, Chief, Operations and Support Branch, United States Fire Administration, 301-447-1055 or by email at Smiley.White@fema.dhs.gov. You may contact the Records Management Division for copies of the proposed collection of information at email address: FEMA-Information-Collections-Management@fema.dhs.gov.

SUPPLEMENTARY INFORMATION: FEMA offers courses and programs that are delivered by the National Fire Academy (NFA) and the Emergency Management Institute (EMI) at the National Emergency Training Center (NETC) in Emmitsburg, MD, the Center for Domestic Preparedness (CDP) in Anniston, AL, and throughout the Nation in coordination with State and local training officials and local colleges and universities to carry out the authorities listed below:

1. Section 7 of Public Law 93-498, Federal Fire Prevention and Control Act, as amended, established the National Fire Academy (NFA) to advance the professional development of fire service personnel and of other persons engaged in fire prevention and control activities.

2. Section 611(f) of the Robert T. Stafford Disaster Relief and Emergency Assistance Act (Stafford Act) as amended, 42 U.S.C. 5121-5207, authorizes the Director to conduct or arrange, by contract or otherwise, for the training programs for the instruction of emergency preparedness officials and other persons in the organization, operation, and techniques of emergency preparedness; conduct or operate schools or classes, including the payment of travel expenses, in accordance with subchapter I of chapter 57 of title 5, United States Code, and the Standardized Government Travel Regulations, and per diem allowances, in lieu of subsistence for trainees in attendance or the furnishing of subsistence and quarters for trainees and instructors on terms prescribed by the Director; and provide instructors and training aids as deemed necessary. This training is conducted through the Emergency Management Institute (EMI).

To facilitate meeting these requirements, FEMA collects information necessary to apply and be accepted for courses and for the student stipend reimbursement program for these courses. There are several organizations within the Federal Emergency Management Agency that deliver training and education in support of the FEMA mission.

Collection of Information

Title: Transcript Request Form.

Type of Information Collection: New information collection.

OMB Number: 1660-NEW.

FEMA Forms: FEMA Form 064-0-0-12, Transcript Request Form.

Abstract: FEMA provides training to advance the professional development of personnel engaged in fire prevention and control and emergency management activities through its Center for Domestic Preparedness (CDP), Emergency Management Institute (EMI), National Fire Academy (NFA), National Training and Education Division, National Domestic Preparedness Consortium, and Rural Domestic Preparedness Consortium. FEMA collects information from students who have completed courses at the National Fire Academy (NFA) and the Emergency Management Institute (EMI) for the purpose of fulfilling the student's request to provide a copy of their transcript for their personal records and/or for transmittal to an institution of higher education that delivers training and education also in support of the FEMA mission.

Affected Public: Individuals or households; Business or other for-profit; Not-for-profit institutions; State, Local or Tribal Government.

Estimated Number of Respondents: 4,500.

Estimated Number of Responses: 4,500.

Estimated Total Annual Burden Hours: 225 hours.

Estimated Total Annual Respondent Cost: $7,978.50.

Estimated Respondents' Operation and Maintenance Costs: $0.

Estimated Respondents' Capital and Start-Up Costs: $0.

Estimated Total Annual Cost to the Federal Government: $28,899.24.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: February 14, 2018.
William H. Holzerland,
Senior Director for Information Management, Office of the Chief Administrative Officer, Mission Support, Federal Emergency Management Agency, Department of Homeland Security.

[FR Doc. 2018-03577 Filed 2-21-18; 8:45 am]

BILLING CODE 9111-45-P